FARM CREDIT ADMINISTRATION

12 CFR Parts 651 and 652

RIN 3052-AC51

Federal Agricultural Mortgage Corporation Governance and Federal Agricultural Mortgage Corporation Funding and Fiscal Affairs; Risk-Based Capital Requirements; Effective Date

AGENCY: Farm Credit Administration.

ACTION: Notice of effective date.

SUMMARY: The Farm Credit Administration (FCA or Agency), through the FCA Board (Board), issued a final rule under parts 651 and 652 on April 27, 2011 (76 FR 23459) amending our regulations on the Risk-Based Capital Stress Test used by the Federal Agricultural Mortgage Corporation. In accordance with 12 U.S.C. 2252, the effective date of the final rule is 30 days from the date of publication in the Federal Register during which either or both Houses of Congress are in session. Based on the records of the sessions of Congress, the effective date of the regulations is June 15, 2011.

DATES: Effective Date: Under the authority of 12 U.S.C. 2252, the regulation amending 12 CFR parts 651 and 652 published on April 27, 2011 (76 FR 23459) is effective June 15, 2011.

FOR FURTHER INFORMATION CONTACT:

Joseph T. Connor, Associate Director for Policy and Analysis, Office of Secondary Market Oversight, Farm Credit Administration, McLean, Virginia 22102-5090, (703) 883-4280, TTY (703) 883-4434,

or

Laura McFarland, Senior Counsel, Office of General Counsel, Farm Credit Administration, McLean, Virginia 22102-5090, (703) 883-4020, TTY (703) 883-4020.

(12 U.S.C. 2252(a)(9) and (10).)

Dated: June 15, 2011.
Dale L. Aultman,
Secretary, Farm Credit Administration Board.

[FR Doc. 2011-15442 Filed 6-20-11; 8:45 am]

BILLING CODE 6705-01-P